NUCLEAR REGULATORY COMMISSION

Criteria for the Review of Alternative Sites: Meeting

AGENCY: Nuclear Regulatory Commission.

ACTION: Notice of public meeting.

SUMMARY: The Nuclear Regulatory Commission (NRC) is announcing a public meeting to obtain public input, which the agency will consider in deciding whether to undertake rulemaking to specifically define the criteria for review of candidate and alternative sites for commercial nuclear power plants. The NRC has environmental protection responsibilities under the National Environmental Policy Act (NEPA) that lead to a review of alternative sites in connection with a decision to grant an early site permit, a construction permit, or a combined operating license. In addition to environmental protection considerations pertaining to alternative sites, the meeting will cover whether and how the NRC should consider emergency planning in reviewing alternative sites.

DATES: January 28, 2003 from 9 a.m. to 5 p.m.

ADDRESSES: The public meeting will be held in the TWFN Auditorium in the NRC's headquarters at Two White Flint North, 11545 Rockville Pike, Rockville, Maryland 20852.

FOR FURTHER INFORMATION CONTACT: Lee Banic, Office of Nuclear Reactor Regulation, U.S. Nuclear Regulatory Commission, Washington DC 20555-0001, e-mail mjb@nrc.gov, telephone (301) 415-2771.

SUPPLEMENTARY INFORMATION:

Purpose

The purpose of the meeting is to obtain public input, which the agency will consider in deciding whether to undertake rulemaking to specifically define the criteria for review of candidate and alternative sites for commercial nuclear power plants. The NRC has environmental protection responsibilities under NEPA that lead to a review of alternative sites in connection with a decision to grant an early site permit, a construction permit, or a combined operating license. In addition to environmental protection considerations pertaining to alternative sites, the meeting will cover whether and how the NRC should consider emergency planning in reviewing alternative sites.

Participation

The meeting will be facilitated to ensure that all participants have the opportunity to share their views with the NRC staff. Members of the public who wish to speak should contact the cognizant NRC staff member listed above under the heading, For Further Information Contact to register before the meeting. Provide your name and a telephone number where you can be contacted, if necessary, before the meeting. Depending on the number of participants, NRC may need to limit the amount of time available for presentations. Members of the public will also be able to register to speak at the meeting on a first come basis to the extent that time is available.

Background

Under NEPA, Federal agencies must study the impacts of “major Federal actions significantly affecting the quality of the human environment” and prepare detailed statements on the environmental impacts of a proposed action and alternatives to the proposed action. Granting an early site permit, a construction permit, or a combined operating license qualifies as a major Federal action significantly affecting the quality of the human environment. In addition, Appendix Q to 10 CFR part 50 provides a process whereby an applicant may request an early review of site suitability issues prior to submitting an application. An applicant might request an early review of alternative site issues under these provisions. Although NEPA and the NRC's regulations contain many elements that shape the NRC's environmental reviews, they do not specify in detail the nature and extent of alternative site reviews.

On April 9, 1980, the NRC published in the Federal Register a proposed rule to address procedures and performance criteria for considering alternative sites (45 FR 24168). On May 28, 1981, the NRC published a final rule that addressed alternative site issues in operating license proceedings (48 FR 28630). Subsequently, the agency suspended work on other aspects of the proposed rule because of reduced interest in building new nuclear power plants. More recently, on March 31, 2000, the NRC published relevant guidance in NUREG-1555, “Environmental Standard Review Plan.” This plan guides the NRC staff in reviewing an application for an early site permit, construction permit, or combined operating license. However, the guidance is general and not binding.

On July 18, 2001, the Nuclear Energy Institute submitted two petitions for rulemaking (Docket Nos. PRM-52-1, PRM-52-2). Among other things, PRM-52-1 requested that the NRC treat as resolved certain information (including siting information) for a proposed nuclear power plant to be built on a site of an existing licensed plant. PRM-52-2 requested elimination of the requirement to consider alternative sites for nuclear power plants. The NRC published a notice of receipt and request for comment in the Federal Register on September 24, 2001 (66 FR 48828). A decision on this petition has not yet been issued by the NRC.

Meeting Topics

The discussions will include the topics discussed below.

(1) Regulatory options:

(a) Maintain the status quo. In this case, the suitability of the candidate site and whether an “obviously superior” alternative site exists would be reviewed on a case-by-case basis, using the current Standard Review Plan as a source of general and non-binding guidance.

(b) Conduct rulemaking to specifically define the criteria for candidate and alternative site reviews. In this case, specific and binding criteria would be developed and implemented.

(c) Issue revised guidance, such as a revised Standard Review Plan. In this case, specific criteria might be developed, but they would not be binding.

(2) Criteria for candidate and alternative site reviews might take one of two broad forms. One type of criterion would focus on the sites selected by the applicant. The other type would focus on the applicant's site-selection process.

(3) The region of interest is the area from which an applicant may select candidate and alternative sites. In the past, likely areas were the State in which the applicant would locate the proposed site or the applicant's service area. Now, deregulation of the electric utility industry might affect the region of interest. In a deregulated industry, the power purchase agreements of a merchant power producer could have considerable reach. It may not be reasonable, however, to expand the region of interest to include areas at great distance from the proposed site.

(4) The review of alternative sites might be subject to a numerical limit. The 1980 proposed rule would have restricted the review to four sites (the proposed site and three alternative sites).

(5) In the past, the NRC has employed an “obviously superior” standard. Some of the ideas that have been suggested for making a determination on whether an alternative site is obviously superior are the following:

(a) If the proposed site is the site of an existing nuclear power plant, the search for reasonable alternatives may be restricted because it is unlikely that an alternative site would be obviously superior.

(b) If the proposed site is the site of an existing nuclear power plant and no potentially disqualifying factors are identified, no review of alternative sites should be required.

(c) The 1980 proposed rule would have indicated that the NRC would use a sequential two-part analytical test. The first part would give primary consideration to hydrology, water quality, aquatic biological resources, terrestrial resources, water and land use, socioeconomics, and population to determine whether any alternative sites are environmentally preferred to the proposed site. If such an environmentally preferred site exists, the second part would overlay consideration of project economics, technology, and institutional factors to determine whether such a site is in fact an obviously superior site.

(6) Emergency preparedness is essentially a safety topic, rather than an environmental protection consideration. However, in some circumstances emergency preparedness considerations might have an effect on the determination of whether an alternative site is obviously superior to the proposed site. For example, there might be physical characteristics unique to an alternative site that could pose a significant impediment to the development of emergency plans. Accordingly, an applicant might be required to identify any physical characteristics unique to an alternative site, such as egress limitations from the area surrounding the site, that could pose a significant impediment to the development of emergency plans, i.e., similar to what is currently required for an early site permit under 10 CFR part 52.

(7) Other topics may be introduced by the participants.

The agenda schedule is as follows:

9-9:30 a.m.: Introductory Remarks

9-12 p.m.: Background and Discussion of Issues

12-1:30 p.m.: Break

1:30-5 p.m. Discussion Continued and Concluding Remarks*

*The meeting may end earlier if a full day is not needed to discuss the issues.

The Environmental Standard Review Plan, discussed above, is available for public inspection at the Commission's Public Document Room, located at One White Flint North, 11555 Rockville Pike (first floor), Rockville, Maryland. It is also accessible from the Agencywide Documents Assess and Management Systems (ADAMS) Public Electronic Reading Room on the Internet at the NRC Web site, http://www.nrc.gov/reading-rm/adams.html under the following ADAMS accession number: ML003702134. If you do not have access to ADAMS or if you have problems in accessing the document in Adams, contact the NRC Public Document Room (PDR) Reference Staff at 1-800-397-4209, 301-415-4737 or by e-mail to pdr@nrc.gov. You may obtain single copies of the document from the contact listed above under the heading FOR FURTHER INFORMATION CONTACT.

Dated at Rockville, Maryland, this 20th day of December, 2002.
For the Nuclear Regulatory Commission.
Brian E. Thomas,
Acting Program Director, Policy and Rulemaking Program, Division of Regulatory Improvement Programs, Office of Nuclear Reactor Regulation.

[FR Doc. 02-32697 Filed 12-26-02; 8:45 am]

BILLING CODE 7590-01-P